NUCLEAR REGULATORY COMMISSION

Advisory Committee on Reactor Safeguards (ACRS); Subcommittee Meeting on Thermal-Hydraulic Phenomena; Notice of Meeting

The ACRS Subcommittee on Thermal-Hydraulic Phenomena will hold a meeting on April 19-20, 2007, 11545 Rockville Pike, Rockville, Maryland in Room T-2B3.

The entire meeting will be open to public attendance, with the exception of portions that may be closed to discuss General Electric proprietary information pursuant to 5 U.S.C. 552b(c)(4).

The agenda for the subject meeting shall be as follows:

Thursday, April 19, 2007—8:30 a.m. until the conclusion of business.

Friday, April 20, 2007—8:30 a.m. until the conclusion of business.

The Subcommittee will review the staff evaluation of the MELLLA+, GE Methods, and GE DSS-CD Topical Reports. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: March 27, 2007.
Cayetano Santos,
Acting Branch Chief, ACRS.

[FR Doc. E7-6077 Filed 4-2-07; 8:45 am]

BILLING CODE 7590-01-P